DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to Office of Management and Budget (OMB) under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Healthcare Integrity and Protection Data Bank for Final Adverse Information on Health Care Providers, Suppliers, and Practitioners (OMB No. 0915-0239)—Extension

Section 221 (a) of the Health Insurance Portability and Accountability Act (HIPAA) of 1996 specifically directs the Secretary to establish a national health care fraud and abuse data collection program for the reporting and disclosure of certain final adverse actions taken against health care providers, suppliers, and practitioners. A final rule was published October 26, 1999, in the Federal Register to implement the statutory requirements of section 1128E of the Social Security Act (The Act) as added by section 221 (a) of HIPAA. The Act requires the Secretary to implement the national health care fraud and abuse data collection program. This data bank is known as the Healthcare Integrity and Protection Data Bank (HIPDB). It contains the following types of information: (1) Civil judgments against a health care provider, supplier, or practitioner in Federal or State court related to the delivery of a health care item or service; (2) Federal or State criminal convictions against a health care provider, supplier, or practitioner related to the delivery of a health care item or service; (3) actions by Federal or State agencies responsible for the licensing and certification of health care providers, suppliers, or practitioners; (4) exclusion of a health care provider, practitioner or supplier from participation in Federal or State health care programs; and (5) any other adjudicated actions or decisions that the Secretary shall establish by regulations. Access to this data bank is limited to Federal and State Government agencies and health plans.

The reporting forms and the request for information forms (query forms) must be accessed, completed, and submitted to the HIPDB electronically through the HIPDB Web site at http://www.npdb-hipdb.hrsa.gov. All reporting and querying is performed through this secure Web site. Due to overlap in requirements for the HIPDB, some of the National Practitioner Data Bank's burden has been subsumed under the HIPDB.

Estimates of burden are as follows:

Regulation citation | Number of respondents | Frequency of responses | Hours per response (min.) | Total burden hours
61.6(a), (b) Errors & Omissions | 172 | 4.3 | 15 | 184.9
61.6 Revisions/Appeal Status | 107 | 23.25 | 30 | 1,243.9
61.7 Reporting by State Licensure Boards | 275 | 70.3 | 45 | 14,499.4
61.8 Reporting of State Criminal Convictions | 62 | 8 | 45 | 372
61.9 Reporting of Civil Judgments | 54 | 13 | 45 | 526.5
61.10(b) Reporting Exclusions from participating in Federal and State Health Care Programs | 10 | 441.4 | 45 | 3,310.5
61.11 Reporting of adjudicated actions/decisions | 410 | 12.5 | 45 | 3,843.8
61.12 Request for Information—State Licensure Boards | 1,000 | 67.5 | 5 | 5,622.8
61.12 Request for Information—State Certification Agencies | 16 | 6 | 5 | 8
61.12 Request for Information States/District Attorneys & Law Enforcement | 2,000 | 25 | 5 | 4,165
61.12 Request for Information—State Medicaid Fraud Units | 47 | 50 | 5 | 195.8
61.12 Request for Information—Health Plans | 2,841 | 263.8 | 5 | 62,429.7
61.12 Request for Information—Health Care Providers, Suppliers, Practitioners (Self-query) | 37,925 | 1 | 25 | 15,799.6
61.12(a)(4) Request by Researchers for Aggregate Data | 1 | 1 | 30 | .5
61.15 Place Report in Dispute | 459 | 1 | 5 | 38.2
61.15 Add a Subject Statement | 238 | 1 | 45 | 178.5
61.15 Request for Secretarial Review | 43 | 1 | 480 | 344
Entity Registration | 2,500 | 1 | 60 | 2,500
Entity Registration—Update | 451 | 1 | 5 | 37.6
Entity Reactivation | 450 | 1 | 60 | 450
Authorized Agent Designation | 100 | 1 | 15 | 25
Authorized Agent Designation—Update | 250 | 1 | 5 | 20.8
Account Discrepancy | 1,000 | 1 | 15 | 250
Electronic Funds Transfer Authorization | 400 | 1 | 15 | 100
Total |  |  |  | 116,146.5
Numbers in the table may not add up exactly due to rounding.

Send comments to Susan G. Queen, PhD, HRSA Reports Clearance Officer, Room 10-33, Parklawn Building, 5600 Fishers Lane, Rockville, MD 20857. Written comments should be received within 60 days of this notice.

Dated: March 5, 2007.
Alexandra Huttinger,
Acting Director, Division of Policy Review and Development.

[FR Doc. E7-4411 Filed 3-9-07; 8:45 am]

BILLING CODE 4165-15-P